DEPARTMENT OF AGRICULTURE

Forest Service

Kake to Petersburg Transmission Line Intertie Project

AGENCY: Forest Service, USDA.

ACTION: Notice of intent to prepare an Environmental Impact Statement.

SUMMARY: The Department of Agriculture, Forest Service, will prepare an Environmental Impact Statement (EIS) on a proposal to construct and operate a new electric transmission line intertie that would extend west across the Tongass National Forest from the Petersburg area to the community of Kake. The proposed action is to build a new transmission line that would transmit power at either 69 or 138 kilovolt (kV) and consist of single wood pole structures with horizontal post insulators, with average span lengths between pole structures of 350 to 400 feet. Two primary alternative routes are currently under consideration. These routes generally follow two routes previously identified as Transportation and Utility System (TUS) corridors in the Tongass National Forest Land and Resource Management Plan (Forest Plan). Both alternative routes follow existing logging roads for the majority of their lengths. In addition, one of the routes follows the proposed route identified by the Alaska Department of Transportation & Public Facilities (DOTPF) for the permanent road between Kake and Petersburg. Both routes would use existing roads for construction and long-term maintenance access where possible. New road segments would be built in locations where access is not currently available.

DATES: Comments concerning the scope of the analysis must be received by June 7, 2010. Public information and scoping meetings will be held in Petersburg on May 12, 2010 and in Kake on May 13, 2010. The Draft EIS is projected to be filed with the Environmental Protection Agency (EPA) in December 2010 and will begin a 45-day public comment period. The Final EIS and Record of Decision are scheduled to be published in Summer/Fall 2011.

ADDRESSES: You may comment on the project in the following ways: Send written comments to the Petersburg Ranger District, Tongass National Forest, Attn: Kake-Petersburg Intertie Project, P.O. Box 1328, Petersburg, AK 99833, or hand deliver them to the Petersburg Ranger District, 12 N Nordic Drive, Petersburg, Alaska. The FAX number is (907) 772-5995. Send e-mail comments to: comments-alaska-tongass-petersburg@fs.fed.us with “Kake-Petersburg Intertie Project” in the subject line. Include your name, address and organization name if you are commenting as a representative.

FOR FURTHER INFORMATION CONTACT: Questions about the proposal and EIS should be directed to Chris Savage, District Ranger, Petersburg Ranger District, Tongass National Forest, P.O. Box 1328, Petersburg, AK 99833, telephone (907) 772-3871.

SUPPLEMENTARY INFORMATION: Background: An Intertie transmission line from Kake to Petersburg has been discussed for many years and has been the subject of a number of studies dating back to the 1970s, with more than 10 alternative routes discussed over the years. Recent studies include the Southeast Alaska Intertie Study prepared in 2003 and a follow-on study of the Kake-Petersburg Intertie completed in 2005 and updated in 2009. These recent studies identified two primary route alternatives, a southern route that crosses the Wrangell Narrows near the Tonka log transfer facility and proceeds west across Duncan Canal (the “Center-South” route), and a northern route generally located on the north end of Kupreanof Island (the “Northern” route). These alternatives generally correspond with two TUS corridors identified in the 2008 Forest Plan.

Purpose and Need for Action: The community of Kake on Kupreanof Island is presently served by an isolated electric system operated by the Inside Passage Electric Cooperative (IPEC). This system currently depends upon high-cost diesel generation, and the resulting high cost of electricity in Kake is a major burden on the economic and social well-being of the community and a significant disincentive to economic development. The proposed Kake-Petersburg Intertie would connect this isolated electric system to the interconnected electric systems of Petersburg, Wrangell and Ketchikan. Petersburg, Wrangell, and Ketchikan are currently interconnected to and obtain most of their power supplies from the Tyee Lake and Swan Lake hydroelectric projects owned by the Southeast Alaska Power Agency (SEAPA) (formerly the Four Dam Pool Power Agency). The Kake-Petersburg Intertie would be used to transmit surplus hydroelectric power from SEAPA to the IPEC electric system in Kake, thereby offsetting the existing diesel generation while lowering and stabilizing the cost of electricity in Kake.

Proposed Action: The proposed transmission line would extend west from the Petersburg area to the community of Kake and be approximately 46.8 miles or 56.5 miles in length. The line would be built to transmit power at either 69 or 138 kV and consist of single wood pole structures with horizontal post insulators, with average span lengths between pole structures of 350 to 400 feet. This design would be able to take advantage of existing roads for construction and maintenance and has been used successfully for other transmission applications elsewhere in Alaska.

The two primary routes identified in the 2005 feasibility study and evaluated further in the 2009 update—the Center-South and Northern routes—are currently under consideration. Both proposed routes follow existing logging roads for the majority of their lengths. In addition, the Northern route follows the proposed route identified by the Alaska DOTPF for the permanent road between Kake and Petersburg. Both routes would use existing roads for construction and long-term maintenance access where possible. New road segments would be built in locations where access is not currently available. The two alternative routes may be summarized as follows:

Center-South Route—(46.8 miles total length, two marine crossings). This route would connect to the existing Tyee transmission line approximately 8 miles south of Petersburg and require a tap or a small switch yard. From this connection, the route crosses Wrangell Narrows, proceeds west across the Lindenberg Peninsula (10.6 miles), crosses Duncan Canal, and continues northwest to Kake (33.7 miles), where it would terminate at a new substation located approximately 4.8 miles south of the existing Kake substation. A new distribution line (12.45 kV) would extend from the new substation to Kake. The majority of this route (43.6 miles) would cross National Forest System (NFS) lands. The route would also cross lands owned and managed by the town of Petersburg, Sealaska, Kake Tribal Corporation, and the city of Kake.

Northern Route—(56.5 miles total length, one marine crossing). This route would originate at the existing SEAPA substation near Petersburg, cross Wrangell Narrows from Mitkof Island to Kupreanof Island, and follow the proposed route of the Alaska DOTPF road north along Frederick Sound (18.5 miles), and then west (37.9 miles) to Kake, where, like the Center-South route, it would terminate at a new substation with a new distribution line extending to Kake. The majority of this route (47.1 miles) would cross NFS lands. The route would also cross lands owned and managed by Alaska Department of Natural Resources, Sealaska, Kake Tribal Corporation, and the cities of Kake, Kupreanof, and Petersburg.

Two alternative route options from the SEAPA substation to the proposed Alaska DOTPF road corridor are currently being considered:

Option 1: Under this option the line would start at the SEAPA substation, and staying south of Petersburg, follow an existing gravel road for 3.5 miles east-northeast to Frederick Sound. At Frederick Sound, a submarine cable termination facility would connect the overhead line to a 3.1 mile long underwater cable, which would come ashore near Prolewy Point on Kupreanof Island, where it would connect to an overhead line that would then follow the proposed road corridor.

Option 2: Under this option the line would proceed from the SEAPA substation north along Mitkof Highway to near the narrowest point of the Wrangell Narrows. At that point, the line would turn west and cross Wrangell Narrows via a horizontal directional bore or buried cable that would extend approximately 1,400 feet. West of the Narrows the line would return to overhead construction, turn and go north approximately 1.7 miles where it would cross Petersburg Creek (a distance of approximately 800 feet) either via directional bore or overhead construction. The route would then continue overhead approximately 2.5 miles northeast to the proposed DOTPF road corridor.

Subsistence hearings, as provided for in Title VIII, Section 810 of the Alaska National Interest Lands Conservation Act (ANILCA), will be conducted, if necessary, during the comment period on the Draft EIS.

Public Participation: This notice of intent initiates the scoping process which guides the development of the EIS. Public participation will be especially important at several points during the analysis. The Forest Service will be seeking information, comments, and assistance from Tribal Governments and corporations, Federal, State, and local agencies, individuals and organizations that may be interested in, or affected by, the proposed activities.

The public scoping period for this project extends from May 7, 2010 to June 7, 2010. Interested parties are encouraged to provide written input on the proposed project and submit their comments via email, regular mail, or fax to the addresses identified above under Addresses.

Public scoping meetings will be held from 5 to 7 pm in Petersburg on May 12, 2010 and in Kake on May 13, 2010. Both meetings will follow an open house format. Interested parties may drop in until 7 p.m. to obtain information about the project, speak with project team members, and provide scoping comments to the team.

Tentative Issues: Tentative issues identified for analysis in the EIS to date include the proposed crossings of Wrangell Narrows and Duncan Canal, as well as anadromous and resident fish-bearing streams, potential impacts to wildlife species listed under the Endangered Species Act, and potential impacts to Inventoried Roadless Areas.

Early Notice of Importance of Public Participation in Subsequent Environmental Review: A Draft EIS will be prepared for comment. The comment period on the Draft EIS will be 45 days from the date the EPA publishes the notice of availability in the Federal Register. It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action and will be available for public inspection. (Authority: 40 CFR 1501.7 and 1508.22; Forest Service Handbook 1909.15, Section 21). Comments submitted anonymously will be accepted and considered; however, those who submit anonymous comments will not have standing to appeal the subsequent decision under 36 CFR parts 215 or 217. Additionally, pursuant to 7 CFR 1.27(d), any person may request that the agency withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

To assist the Forest Service in identifying and considering issues and concerns of the proposed action, comments during scoping and comments on the Draft EIS should be as specific as possible. It is also helpful if comments refer to specific pages or chapters of the Draft EIS. Comments may also address the adequacy of the Draft EIS or the merits of the alternatives formulated and discussed in the document. Reviewers may wish to refer to the Council on Environmental Quality Regulations for implementing the procedural provisions of the National Environmental Policy Act at 40 CFR 1503.3 in addressing these points.

Responsible Official: Forrest Cole, Forest Supervisor, Tongass National Forest, Federal Building, Ketchikan, Alaska 99901.

Nature of Decision To Be Made: The Forest Supervisor is the Responsible Official for this action and will decide whether or not to permit the construction of the proposed electric transmission line across NFS lands, along with the alternative route that will be followed, as well as mitigation measures and/or monitoring, as appropriate. The decision will be based on the information that is disclosed in the EIS. The responsible official will consider comments, responses, the disclosure of environmental consequences, and applicable laws, regulations, and policies in making the decision and will state that rationale in the Record of Decision.

(Authority: 40 CFR 1501.7 and 1508.22; Forest Service Handbook 1909.15, Section 21)

Dated: April 29, 2010.
Forrest Cole,
Forest Supervisor.

[FR Doc. 2010-10702 Filed 5-6-10; 8:45 am]

BILLING CODE 3410-11-P